DEPARTMENT OF HEALTH AND HUMAN SERVICES

National Institutes of Health

National Cancer Institute; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications/contract proposals and the discussions could disclose confidential trade secrets or commercial property such as patentable material, and personal information concerning individuals associated with the grant applications, the disclosure of which would constitute a clearly unwarranted invasion of personal privacy.

Name of Committee: National Cancer Institute Special Emphasis Panel, AIDS and Cancer Specimen Resource (ACSR)

Date: May 29, 2013

Time: 12:00 p.m. to 5:00 p.m.

Agenda: To review and evaluate grant applications

Place: National Cancer Institute Shady Grove, Shady Grove, 9609 Medical Center Drive, Room 1E030, Rockville, MD 20850 (Telephone Conference Call)

Contact Person: Donald L Coppock, Ph.D., Scientific Review Officer, Special Review and Logistics Branch, Division of Extramural Activities, National Cancer Institute, Shady Grove-NIH, 9609 Medical Center Drive, Room 7W260, Bethesda, MD 20892, 240-276-6382, donald.coppock@nih.gov

This notice is being published less than 15 days prior to the meeting date due to scheduling conflicts.

Name of Committee: National Cancer Institute Special Emphasis Panel, NCI Program Project Meeting II

Date: June 12-13, 2013

Time: 8:00 a.m. to 5:00 p.m.

Agenda: To review and evaluate grant applications

Place: Hilton, Rockville, 1750 Rockville Pike, Rockville, MD 20852

Contact Person: Majed M. Hamawy, Ph.D., Scientific Review Officer, Research Programs Review Branch, Division Of Extramural Activities, National Cancer Institute, NIH, 9609 Medical Center Drive, Room 7W120, Bethesda, MD 20892, 240-276-6457, mh101v@nih.gov

Name of Committee: National Cancer Institute Special Emphasis Panel, Innovative Technologies for Cancer Biospecimen Science

Date: June 12, 2013

Time: 12:00 p.m. to 5:00 p.m.

Agenda: To review and evaluate grant applications

Place: National Cancer Institute—Shady Grove, Shady Grove, 9609 Medical Center Drive, Room 1E030, Rockville, MD 20850 (Telephone Conference Call)

Contact Person: Donald L Coppock, Ph.D., Scientific Review Officer, Special Review and Logistics Branch, Division of Extramural Activities, National Cancer Institute, NIH, 9609 Medical Center Drive, Room 7W260, Bethesda, MD 20892, 240-276-6382, donald.coppock@nih.gov

Name of Committee: National Cancer Institute Special Emphasis Panel, RNA Biosensor

Date: June 13, 2013

Time: 1:00 p.m. to 3:00 p.m.

Agenda: To review and evaluate contract proposals

Place: National Cancer Institute Shady Grove, Shady Grove, 9609 Medical Center Drive, Room 6W034, Rockville, MD 20850 (Telephone Conference Call)

Contact Person: Bratin K. Saha, Ph.D., Scientific Review Officer, Program Coordination and Referral Branch, Division of Extramural Activities, National Cancer Institute, NIH, 9609 Medical Center Drive, Room 7W556, Bethesda, MD 20892, 240-276-6411, sahab@mail.nih.gov

Name of Committee: National Cancer Institute Special Emphasis Panel, R13 Review Teleconference

Date: June 25, 2013

Time: 1:00 p.m. to 5:00 p.m.

Agenda: To review and evaluate grant applications.

Place: National Cancer Institute Shady Grove, Shady Grove, 9609 Medical Center Drive, Room 6W034, Rockville, MD 20850 (Telephone Conference Call)

Contact Person: Bratin K. Saha, Ph.D., Scientific Review Officer, Program Coordination and Referral Branch, Division of Extramural Activities, National Cancer Institute, NIH, 9609 Medical Center Drive, Room 7W556, Bethesda, MD 20892, 240-276-6411, sahab@mail.nih.gov

Name of Committee: National Cancer Institute Special Emphasis Panel, NCI Omnibus Biology

Date: July 15-16, 2013

Time: 8:00 a.m. to 5:00 p.m.

Agenda: To review and evaluate grant applications.

Place: Doubletree Hotel Bethesda, (Formerly Holiday Inn Select), 8120 Wisconsin Avenue, Bethesda, MD 20814

Contact Person: Zhiqiang Zou, MD, Ph.D., Scientific Review Officer, Special Review and Logistics Branch, Division of Extramural Activities, National Cancer Institute, NIH, 9609 Medical Center Drive, 7W242, Bethesda, MD 20892, 240-276-6372, zouzhiq@mail.nih.gov

Information is also available on the Institute's/Center's home page: http://deainfo.nci.nih.gov/advisory/sep/sep.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: May 20, 2013.
Melanie J. Gray,
Program Analyst, Office of Federal Advisory Committee Policy.

[FR Doc. 2013-12377 Filed 5-23-13; 8:45 am]

BILLING CODE 4140-01-P